DEPARTMENT OF LABOR

Employment and Training Administration

[TA-W-54,985]

Tyco Safety Products, Research and Development Division, Westminster, MA; Dismissal of Application for Reconsideration

Pursuant to 29 CFR 90.18(C) an application for administrative reconsideration was filed with the Director of the Division of Trade Adjustment Assistance for workers at Tyco Safety Products, Research and Development Division, Westminster, Massachusetts. The application contained no new substantial information which would bear importantly on the Department's determination. Therefore, dismissal of the application was issued.

TA-W-54,985; Tyco Safety Products Research and Development Division Westminster, Massachusetts (August 13, 2004)

Signed in Washington, DC this 13th day of August, 2004.
Timothy Sullivan,
Director, Division of Trade Adjustment Assistance.

[FR Doc. 04-19096 Filed 8-19-04; 8:45 am]

BILLING CODE 4510-30-P